DEPARTMENT OF STATE

[Public Notice 5962]

U.S. Department of State Advisory Committee on Private International Law: Study Group on Consumer Protection

One of the goals of the Organization of American States is to harmonize private international law through Inter-American Specialized Conferences on Private International Law (CIDIP). Currently states are drafting instruments for “CIDIP-VII,” which will focus inter alia on consumer protection. States are currently reviewing a draft Brazilian treaty on choice of law, a Canadian draft model law on choice of law and jurisdiction, and a U.S. proposal for a model law on the availability of consumer dispute resolution and redress. OAS member states discussed the three proposals at an initial meeting held in Porto Alegre, Brazil in December 2006. No dates have been set for future meetings, but the views of participating states have been requested.

The Department of State Advisory Committee on Private International Law (ACPIL) will hold a public meeting to review the results of the Porto Alegre meeting and to obtain views on the three proposals with regard to consumer protection.

Time: The public meeting will take place at the Department of State, Office of Private International Law, 2430 E Street, NW., Washington, DC on Wednesday October 31, 2007 from 10 a.m. to 3 p.m. EST. If you are unable to attend the public meeting and you would like to participate by teleconferencing, please contact Trisha Smeltzer to receive the conference call in number and the relevant materials (the Brazilian proposal for a treaty on choice of law, the Canadian proposal for a model law on jurisdiction and choice of law, and the U.S. proposal for a model law on the availability of consumer dispute resolution and redress.)

Public Participation: Advisory Committee Study Group meetings are open to the public. Persons wishing to attend should contact Trisha Smeltzer at smeltzertk@state.gov or at 202-776-8423 and provide your name, mailing address, e-mail address, and affiliation(s) no later than October 29th. Since access to the building is controlled, clearance for admission to the meeting will be needed. Additional meeting information can also be obtained from Ms. Smeltzer. Persons who cannot attend but who wish to comment on any of the proposals are welcome to do so by e-mail to Michael Dennis at DennisMJ@state.gov.

Dated: October 12, 2007.
David Stewart,
Attorney-Adviser, Office of the Legal Advisor, Office of Private International Law, Department of State.

[FR Doc. E7-20647 Filed 10-18-07; 8:45 am]

BILLING CODE 4710-08-P